DEPARTMENT OF JUSTICE

Notice of Lodging of Consent Decree Under the Clean Air Act

Under 28 CFR 50.7, notice is hereby given that on March 22, 2000, a proposed consent decree (“Consent Decree”) in United States v. Brownwood Furniture, Inc., Civil Action No. EDCV00-182 RT(BQR) (C.D. Cal.), was lodged with the United States District Court for the Central District of California.

The Consent Decree resolves claims that the United States asserted against Brownwood Furniture, Inc. (“Brownwood”) in a civil complaint filed concurrently with the lodging of the Consent Decree. The complaint alleges violations of the Clean Air Act and the State Implementation Plan (“SIP”) at Brownwood's Rancho Cucamonga facility located in San Bernardino County, California. Specifically, the complaint alleges that defendant, Brownwood violated emissions and record-keeping conditions of its 1989 New Source Review permit to operate its original spray booth. The complaint also alleges that, with respect to the two spray booths defendant added in 1998, it failed to obtain valid permits to construct or permits to operate before constructing and operating that additional equipment; failed to apply Best Available Control Technology (“BACT”); and failed to provide emission offsets. In addition, the complaint alleges that defendant failed to provide all information necessary for the South Coast Air Quality Management District's permit determination. The complaint also alleges in the alternative, that if the permits to operate the new spray booths were valid, then defendant violated the emission limit of one of those permits. The Consent Decree requires defendant to pay a civil penalty of $115,000, plus interest, and follow a compliance plan to reduce volatile organic compound (VOC) emissions at the two additional booths by using ultra-low VOC coatings and/or the addition of control equipment.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Brownwood Furniture, Inc., Civil Action No. EDCV00-182 RT(BQR) (C.D. Cal.), and D.J. Ref. 90-5-2-1-06555.

The Consent Decree may be examined at the Office of the United States Attorney, Federal Building Room, 7516, 300 North Los Angeles Street, Los Angeles, California 90012, and at U.S. EPA Region 9, 75 Hawthorne Street, San Francisco, CA 94105. A copy of the Consent Decree may be obtained by mail from the Consent Decree Library, P.O. Box 7611, U.S. Department of Justice, Washington, DC 2004-7611. In requesting a copy, please enclose a check in the amount of $4.50 (25 cents per page reproduction cost) payable to the Consent Decree Library.

Joel M. Gross,
Chief, Environmental Enforcement Section, Environment and Natural Resources Division.

[FR Doc. 00-8075 Filed 3-31-00; 8:45 am]

BILLING CODE 4410-15-M